DEPARTMENT OF AGRICULTURE

Animal and Plant Health Inspection Service

[Docket No. APHIS-2014-0004]

Field Release of Aphelinus rhamni for the Biological Control of the Soybean Aphid in the Continental United States; Availability of an Environmental Assessment

AGENCY: Animal and Plant Health Inspection Service, USDA.

ACTION: Notice of availability and request for comments.

SUMMARY: We are advising the public that a draft environmental assessment has been prepared by the Animal and Plant Health Inspection Service relative to the proposed release of Aphelinus rhamni for the biological control of the soybean aphid, Aphis glycines, in the continental United States. We are making this environmental assessment available to the public for review and comment.

DATES: We will consider all comments that we receive on or before June 2, 2014.

ADDRESSES: You may submit comments by either of the following methods:

• Federal eRulemaking Portal: Go to http://www.regulations.gov/#!docketDetail;D=APHIS-2014-0004.

• Postal Mail/Commercial Delivery: Send your comment to Docket No. APHIS-2014-0004, Regulatory Analysis and Development, PPD, APHIS, Station 3A-03.8, 4700 River Road Unit 118, Riverdale, MD 20737-1238.

Supporting documents and any comments we receive on this docket may be viewed at http://www.regulations.gov/#!docketDetail;D=APHIS-2014-0004 or in our reading room, which is located in Room 1141 of the USDA South Building, 14th Street and Independence Avenue SW., Washington, DC. Normal reading room hours are 8 a.m. to 4:30 p.m., Monday through Friday, except holidays. To be sure someone is there to help you, please call (202) 7997039 before coming.

FOR FURTHER INFORMATION CONTACT: Dr. Shirley A Wager-Pagé, Chief, Pest Permitting Branch, Plant Health Programs, PPQ, APHIS, 4700 River Road Unit 133, Riverdale, MD 20737-1236; (301) 851-2323.

SUPPLEMENTARY INFORMATION: The soybean aphid, Aphis glycines, which is native to Asia, was found in North America in 2000 and has since become a major pest. It infested 42 million acres in North America in 2003, resulting in decreased soybean yields and greatly increased control costs. The soybean aphid has invaded most soybean production regions in North America. By 2009, soybean aphid was present in 30 States and 3 Canadian Provinces.

The Animal and Plant Health Inspection Service (APHIS) is proposing to issue permits for the field release of a parasitic wasp, Aphelinus rhamni, to reduce the severity of soybean damage from infestations of soybean aphid in the United States.

APHIS' review and analysis of the potential environmental impacts associated with this proposed field release are documented in detail in an environmental assessment entitled “Field Release of Aphelinus rhamni (Hymenoptera: Aphelinidae) for the Biological Control of the Soybean Aphid, Aphis glycines (Hemiptera: Aphididae), in the Continental United States” (August 2013). We are making this environmental assessment available to the public for review and comment. We will consider all comments that we receive on or before the date listed under the heading DATES at the beginning of this notice.

The environmental assessment may be viewed on the Regulations.gov Web site or in our reading room (see ADDRESSES above for a link to Regulations.gov and information on the location and hours of the reading room). You may request paper copies of the environmental assessment by calling or writing to the person listed under FOR FURTHER INFORMATION CONTACT. Please refer to the title of the environmental assessment when requesting copies.

The environmental assessment has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 28th day of April 2014.
Kevin Shea,
Administrator, Animal and Plant Health Inspection Service.

[FR Doc. 2014-10038 Filed 5-1-14; 8:45 am]

BILLING CODE 3410-34-P